DEPARTMENT OF THE INTERIOR

Fish and Wildlife Service

Hanford Reach National Monument Federal Advisory Committee; Meeting Notice

AGENCY: Fish and Wildlife Service, Interior.

ACTION: Notice; FACA meeting.

SUMMARY: The Hanford Reach National Monument Federal Advisory Committee will conduct a meeting on Thursday, October 25, 2001 from 9:00 am to 4:45 pm in the Board Room in the Administration Building of the Columbia Basin College, 2600 N. 20th Ave., Pasco, Washington. The meeting is open to the public and press.

DATES: Verbal comments will be considered during the course of the meeting and written comments will be accepted that are submitted by the close of the meeting.

ADDRESSES: Any member of the public wishing to submit written comments should send those to Mr. Greg Hughes, Designated Federal Officer for the Hanford Reach National Monument Federal Advisory Committee, Hanford Reach National Monument/Saddle Mountain National Wildlife Refuge, 3250 Port of Benton Blvd., Richland, WA 99352; fax (509) 375-0196. Copies of the draft meeting agenda can be obtained from the Designated Federal Officer.

FOR FURTHER INFORMATION CONTACT: Any member of the public wishing further information concerning the meeting should contact Mr. Greg Hughes, Designated Federal Official for the Hanford Reach National Monument FAC; phone (509) 371-1801, fax (509) 375-0196.

SUPPLEMENTARY INFORMATION: During this meeting, the Hanford Reach National Monument Federal Advisory Committee will hear informational presentations regarding valid existing rights as defined by Presidential Proclamation #7319, water rights and the Vernita Bar Agreement, land withdrawal and transition from the U.S. Department of Energy and the U.S. Bureau of Land Management, South Columbia Basin Irrigation Project and the Federal Columbia River Transmission System.

Dated: September 29, 2001.
Greg Hughes,
Project Leader, Hanford Reach National Monument.

[FR Doc. 01-25192 Filed 10-5-01; 8:45 am]

BILLING CODE 4310-55-P